DEPARTMENT OF HOMELAND SECURITY

Coast Guard

[Docket No. USCG-2009-0384]

Maritime Security Directive 104-6 (Rev 6); Guidelines for U.S. Vessels Operating in High Risk Waters

AGENCY: Coast Guard, DHS.

ACTION: Notice of Availability.

SUMMARY: The Coast Guard announces the release of Maritime Security (MARSEC) Directive 104-6 (Rev 6). This Directive only applies to U.S.-flagged vessels subject to the Maritime Transportation Security Act (MTSA) on international voyages through or in designated high risk waters, and provides additional counter-piracy guidance and mandatory measures for these vessels operating in these areas where acts of piracy and armed robbery against ships are prevalent. MARSEC Directive 104-6 (Rev 6) also includes an annex that provides specific direction for vessels operating around the Horn of Africa. Although MARSEC Directives are designated Sensitive Security Information (SSI) and are not subject to public release, a non-SSI version of this directive is available.

DATES: MARSEC Directive 104-6 (Rev 6) has been available since December 30, 2011. MARSEC Directive 104-6 (Rev 5) is no longer valid after that date.

ADDRESSES: The latest MARSEC Directives are available at your local Captain of the Port (COTP) office. Phone numbers and addresses for your local COTP office can be found in the Port Directory at http://homeport.uscg.mil.

FOR FURTHER INFORMATION CONTACT: If you have questions on this notice, call LCDR James T. Fogle, Office of Vessel Activities, Coast Guard, telephone (202) 372-1038, email James.T.Fogle@uscg.mil. If you have questions on viewing material in the docket, call Renee V. Wright, Program Manager, Docket Operations, telephone (202) 366-9826.

SUPPLEMENTARY INFORMATION:

Background and Purpose

Somali pirates operate along a 2,300 mile coast and in 2.5 million square miles of ocean. The international community has engaged with local officials in a focused domestic and international anti-piracy effort to address the enforcement difficulties caused by the affected area's size and political complexity. Despite these efforts, piracy persists and the combination of piracy and weak rule of law in the region provides a potential breeding ground for additional transnational threats. Accordingly, the United States uses existing statutory authority to develop security standards designed to protect U.S.-flagged vessels and continues to work with international partners to prevent piracy.

On February 10, 2006, the Coast Guard announced the release of MARSEC Directive 104-6 (71 FR 7054) for those owners and operators of vessels subject to 33 CFR parts 101 and 104. MARSEC Directive 104-6 provides direction to U.S.-flagged vessels operating in high risk areas where acts of piracy and armed robbery against ships are prevalent.

MARSEC Directive 104-6 has been revised five times. MARSEC Directive 104-6 (Rev 1) provided an updated list of high risk waters based on a biennial review of global piracy and terrorism threats.

MARSEC Directive 104-6 (Rev 2) provided additional counter-piracy guidance to U.S.-flagged vessels operating in high risk waters where acts of piracy and armed robbery against ships are prevalent. It also provided a listing of additional high risk waters, updated from the previous version of the Directive.

MARSEC Directive 104-6 (Rev 3) encouraged the use of industry best management practices that have proven to be successful in thwarting pirate attacks and incorporates lessons-learned since the issuance of Revision 2.

MARSEC Directive 104-6 (Rev 4) provided clarification for U.S.-flagged vessels berthed or anchored in high risk waters. Vessels at anchor should operate in a manner consistent with vessels that transit through high risk waters. Whether at anchor or underway, the vessels are subjected to the same type of threats from attacking pirates. Vessels berthed in high risk waters should implement enhanced security measures as required by the MARSEC Directive.

MARSEC Directive 104-6 (Rev 5) addressed the expanding operating area of Somali pirates and provides U.S.-flagged vessels additional guidance for operations in the Indian Ocean.

MARSEC Directive 104-6 (Rev 6), the Directive that is the subject of this notice of availability, provides a revised and updated list of designated high risk waters and areas. MARSEC Directive 104-6 (Rev 5) is no longer valid with the issuance of (Rev 6).

We developed piracy-related Port Security Advisories (PSAs) to provide further guidance and direction to U.S.-flagged vessels operating in high risk waters to help facilitate compliance with MARSEC Directive 104-6 (series). The PSAs can be found at http://homeport.uscg.mil/piracy, including a non-SSI version of this MARSEC Directive in PSA (2-09) (Rev 3).

Procedural

COTPs and District Commanders can access all MARSEC directives on Homeport by logging in and going to Missions > Maritime Security > Maritime Transportation Security Act (MTSA) > Policy. Owners and operators of U.S.-flagged vessels that travel on international voyages must contact their local COTP, cognizant District Commander or the Office of Vessel Activities to acquire a copy of MARSEC Directive 104-6 (Rev 6). COTPs or cognizant District Commanders may provide this MARSEC Directive to appropriate vessel owners and operators via mail or fax in accordance with SSI handling procedures.

Pursuant to 33 CFR 101.405, we consulted with the Department of State, Office of the Secretary of Defense, Joint Chiefs of Staff, Department of Transportation/Maritime Administration, Office of Naval Intelligence, Department of Commerce, Department of Justice, Military Sealift Command, Global Maritime Situational Awareness, Overseas Security Advisory Council, United States Agency for International Development, Naval Criminal Investigative Service, Customs and Border Protection, Transportation Security Administration, U.S. Africa Command, U.S. Central Command, and U.S. Transportation Command prior to issuing these Directives.

All MARSEC Directives issued pursuant to 33 CFR 101.405 are marked as SSI in accordance with 49 CFR Part 1520. COTPs and District Commanders will require individuals requesting a MARSEC Directive to prove that they meet the standards for a “covered person” under 49 CFR 1520.7, have a “need to know” the information, as defined in 49 CFR 1520.11, and that they will safeguard the SSI in MARSEC Directive 104-6 (Rev 6) as required in 49 CFR 1520.9.

Dated: January 20, 2012.
Paul F. Thomas, USCG,
Acting Director, Prevention Policy

[FR Doc. 2012-1908 Filed 1-27-12; 8:45 am]

BILLING CODE 9110-04-P